DEPARTMENT OF HEALTH AND HUMAN SERVICES

Health Resources and Services Administration

Agency Information Collection Activities: Submission to OMB for Review and Approval; Public Comment Request; The National Health Service Corps Loan Repayment Programs

AGENCY: Health Resources and Services Administration (HRSA), Department of Health and Human Services (HHS).

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than May 10, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: The National Health Service Corps Loan Repayment Programs, OMB No. 0915-0127—Revision

Abstract: The National Health Service Corps (NHSC) Loan Repayment Program (LRP) was established to assure an adequate supply of trained primary care health professionals to provide services in Health Professional Shortage Areas (HPSAs) of the United States with the greatest need. The NHSC Substance Use Disorder Workforce LRP and the NHSC Rural Community LRP were established to recruit and retain a health professional workforce with specific training and credentials to provide evidence-based substance use disorder treatment in HPSAs. Under these programs, HHS agrees to repay the qualifying educational loans of selected primary care health professionals. In return, the health professionals agree to serve for a specified period of time in an NHSC-approved site located in a federally-designated HPSA approved by the Secretary of HHS for LRP participants.

The forms used by each LRP include the following: (1) the NHSC LRP Application; (2) the Authorization for Disclosure of Loan Information Form; (3) the Privacy Act Release Authorization Form, and, if applicable; (4) the Verification of Disadvantaged Background Form; (5) the Private Practice Option Form; (6) the NHSC Comprehensive Behavioral Health Services Checklist; (7) the NHSC Spanish Language Assessment Proficiency Test Form; and (8) the NHSC Site Application. The first four of these NHSC LRP forms collect information that is needed for selecting participants and repaying qualifying educational loans. The Private Practice Option and Spanish Language Assessment forms are needed to collect information from applicants who wish to be considered for those options. The NHSC Comprehensive Behavioral Health Services Checklist collects information to ascertain whether behavioral health providers are practicing in a community-based setting that provides access to comprehensive behavioral health services. The NHSC Site Application collects information used for determining the eligibility of sites for the assignment of NHSC health professionals and to verify the need for NHSC clinicians.

A 60-day notice published in the Federal Register on January 23, 2024, vol. 88, No. 249; pp. 90191-92. There were no public comments.

Need and Proposed Use of the Information: The need and proposed use of this information collection is to assess an LRP applicant's eligibility and qualifications for the LRP, and to determine LRP applicants' Spanish language proficiency if relevant to their application, and to obtain information for NHSC site applicants. The NHSC LRP application asks for personal, professional, and financial/loan information.

Likely Respondents: Likely respondents include licensed primary care medical, dental, and behavioral health providers who are employed or seeking employment and are interested in serving underserved populations.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
NHSC LRP Application | 9,020 | 1 | 9,020 | 1.00 | 9,020
Authorization for Disclosure of Loan Information Form | 7,150 | 1 | 7,150 | 0.10 | 715
Privacy Act Release Authorization Form | 303 | 1 | 303 | 0.10 | 30
Verification of Disadvantaged Background Form | 660 | 1 | 660 | 0.50 | 330
Private Practice Option Form | 330 | 1 | 330 | 0.10 | 33
NHSC Comprehensive Behavioral Health Services Checklist | 4,400 | 1 | 4,400 | 0.13 | 572
NHSC Spanish Language Assessment Proficiency Test Form | 3,006 | 1 | 3,006 | 0.50 | 1,503
NHSC Site Application (including recertification) | 4,070 | 1 | 4,070 | 0.50 | 2,035
Total | 28,939 |  | 28,939 |  | 14,238

Maria G. Button,
Director, Executive Secretariat.

[FR Doc. 2024-07590 Filed 4-9-24; 8:45 am]

BILLING CODE 4165-15-P